FEDERAL COMMUNICATIONS COMMISSION

47 CFR Part 73

[DA 02-409; MM Docket No. 02-40; RM-10377]

Radio Broadcasting Services; Goldsboro and Smithfield, North Carolina

AGENCY: Federal Communications Commission.

ACTION: Proposed rule.

SUMMARY: This document requests comments on a petition for rule making filed on behalf of New Age Communications, Inc., licensee of Station WKIX(FM), Channel 272A, Goldsboro, North Carolina, requesting the reallotment of Channel 272A from Goldsboro to Smithfield, North Carolina, and modification of its authorization accordingly, pursuant to the provisions of Section 1.420(i) of the Commission's Rules. The coordinates for requested Channel 272A at Smithfield, North Carolina, are 35-28-21 NL and 78-19-43 WL.

Petitioner's reallotment proposal complies with the provisions of section 1.420(i) of the Commission's Rules, and therefore, the Commission will not accept competing expressions of interest in the use of Channel 272A at Smithfield, North Carolina, or require the petitioner to demonstrate the availability of an additional equivalent class channel.

DATES: Comments must be filed on or before April 8, 2002, and reply comments on or before April 23, 2002.

ADDRESSES: Secretary, Federal Communications Commission, 445 12th Street, SW., Room TW-A325, Washington, DC 20554. In addition to filing comments with the FCC, interested parties should serve the petitioner's counsel, as follows: Wade H. Hargrove, Esq. and David Kusher, Esq., Brooks, Pierce, McLendon, Humphrey & Leonard, L.L.P.; P.O. Box 1800; Raleigh, North Carolina 27602.

FOR FURTHER INFORMATION CONTACT: R. Barthen Gorman, Mass Media Bureau, (202) 418-2180.

SUPPLEMENTARY INFORMATION: This is a synopsis of the Commission's Notice of Proposed Rule Making, MM Docket No. 02-40, adopted February 13, 2002, and released

February 22, 2002. The full text of this Commission decision is available for inspection and copying during regular business hours in the FCC's Reference Information Center at Portals II, 445 12th Street, SW, CY-A257, Washington, DC, 20554. This document may also be purchased from the Commission's duplicating contractors, Qualex International, Portals II, 445 12th Street, SW, Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio broadcasting.

For the reasons discussed in the preamble, the Federal Communications Commission proposes to amend 47 CFR part 73 as follows:

PART 73—[RADIO BROADCAST SERVICES]

1.The authority citation for Part 73 continues to read as follows:

Authority: 47 U.S.C. 154, 303, 334, and 336.

§ 73.202 [Amended]

1. Section 73.202(b), the Table of FM Allotments under North Carolina, is amended by adding Smithfield, Channel 272A, and removing Channel 272A at Goldsboro.

Federal Communications Commission.
John A. Karousos,
Chief, Allocations Branch, Policy and Rules Division, Mass Media Bureau.

[FR Doc. 02-5710 Filed 3-8-02; 8:45 am]

BILLING CODE 6712-01-P